DEPARTMENT OF DEFENSE

Department of the Air Force

Local Redevelopment Authority and Available Surplus Buildings and Land at Buckley Annex, Located in Denver, CO

AGENCY: Department of the Air Force, DoD.

ACTION: Notice.

SUMMARY: This notice provides information regarding the surplus property at Buckley Annex in Denver, Colorado and information about the local redevelopment authority that has been established to plan the reuse of the Buckley Annex. The administrative building on this property is located at 6760 E. Irvington Place, Denver, CO 80230.

FOR FURTHER INFORMATION CONTACT: Contact Mr. Thomas B. Kempster, Special Assistant, Air Force Real Property Agency, 1700 North Moore Street, Suite 2300, Arlington, VA 22209-2802, telephone (703) 696-5532.

SUPPLEMENTARY INFORMATION: This surplus property is available under the provisions of the Federal Property and Administrative Services Act of 1949 as amended (40 U.S.C. 501 et seq.) and the Base Closure Community Redevelopment and Assistance Act of 1994.

Notice of Surplus Property: Pursuant to paragraph (7)(B) of section 2905(b) of the Defense Base Closure and Realignment Act of 1990, as amended by the Base Closure Community Redevelopment and Homeless Assistance Act of 1994 (Public Law 103-421), the following information regarding the surplus property described herein.

Local Redevelopment Authority: The local redevelopment authority for the Buckley Annex, Denver, CO for purposes of implementing the provisions of the Defense Base Closure and Realignment Act of 1990 as amended is the Lowry Economic Redevelopment Authority. All inquiries should be addressed to Mr. Thomas O. Markham, Executive Director, 555 Uinta Way, Denver, CO 80230, telephone 303-343-0276.

Surplus Property Description: Land: The property consists of 72 acres of land. Buildings/Structures: 6 buildings containing 638,347 sq ft.

Expressions of Interest: Pursuant to paragraph 7(C) of section 2905(b) of the Defense Base Closure and Realignment Act of 1990, as amended by the Base Closure and Community Redevelopment and Homeless Assistance Act of 1994, state and local governments, representatives of the homeless, and other interested parties located in the vicinity of Buckley Annex, Denver, CO shall submit to Mr. Thomas O. Markham, Executive Director, 555 Uinta Way, Denver, CO 80230, a notice of interest, of such governments, representatives, and parties in the above described surplus property, or any portion thereof. A notice shall describe the need of the government, representative, or party concerned, for the desired surplus property. Pursuant to paragraph 7(C) of section 2905(b), the Lowry Economic Redevelopment Authority shall assist interested parties in evaluating the surplus property for the intended use, and publish in a newspaper of general circulation within Colorado, the date by which expressions of interest must be submitted.

Bao-Anh Trinh,
DAF, Air Force Federal Register Liaison Officer.

[FR Doc. E6-8225 Filed 5-26-06; 8:45 am]

BILLING CODE 5001-05-P